DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons and property that have been placed on OFAC's Specially Designated Nationals and Blocked Persons List (SDN List) based on OFAC's determination that one or more applicable legal criteria were satisfied. All property and interests in property subject to U.S. jurisdiction of these persons are blocked, and U.S. persons are generally prohibited from engaging in transactions with them. Additionally, OFAC is publishing updates to the identifying information of one person currently included on the Sectoral Sanctions Identification List (SSI List).

DATES: See SUPPLEMENTARY INFORMATION section for applicable date(s).

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The SDN List, SSI List, and additional information concerning OFAC sanctions programs are available on OFAC's website (https://www.treasury.gov/ofac).

Notice of OFAC Actions

A. On June 2, 2022, OFAC determined that the property and interests in property subject to U.S. jurisdiction of the following persons are blocked and also identified the following property as blocked under the relevant sanctions authorities listed below.

BILLING CODE 4810-AL-P

BILLING CODE 4810-AL-C

Vessels

1. GRACEFUL (UBGV8) Yacht 2,685GRT Russia flag; Vessel Registration Identification IMO 1011551 (vessel) [RUSSIA-EO14024] (Linked To: PUTIN, Vladimir Vladimirovich).

Identified as property in which Vladimir Vladimirovich Putin, a person whose property and interests in property are blocked pursuant to E.O. 14024, has an interest.

2. OLYMPIA (ZCGR) Yacht 776GRT Cayman Islands flag; Vessel Registration Identification IMO 1006960; MMSI 319766000 (vessel) [RUSSIA-EO14024] (Linked To: PUTIN, Vladimir Vladimirovich).

Identified as property in which Vladimir Vladimirovich Putin, a person whose property and interests in property are blocked pursuant to E.O. 14024, has an interest.

3. SEA RHAPSODY (V7VR9) Yacht 1,503GRT Marshall Islands flag; Secondary sanctions risk: Ukraine-/Russia-Related Sanctions Regulations, 31 CFR 589.201 and/or 589.209; Vessel Registration Identification IMO 1010648; MMSI 538071180 (vessel) [UKRAINE-EO13661] (Linked To: KOSTIN, Andrey Leonidovich).

Identified as property in which Andrey Leonidovich Kostin, a person whose property and interests in property are blocked pursuant to Executive Order 13661 of March 16, 2014, “Blocking Property of Additional Persons Contributing to the Situation in Ukraine,” 79 FR 15535 (March 19, 2014) (E.O. 13661), has an interest.

4. MADAME GU (ZGCW7) Yacht 2,991GRT Cayman Islands flag; Secondary sanctions risk: Ukraine-/Russia-Related Sanctions Regulations, 31 CFR 589.201 and/or 589.209; Vessel Registration Identification IMO 1011331 (vessel) [UKRAINE-EO13661] [RUSSIA-EO14024] (Linked To: SKOCH, Andrei Vladimirovich).

Identified as property in which Andrei Vladimirovich Skoch, a person whose property and interests in property are blocked pursuant to E.O. 13661 and E.O. 14024, has an interest.

5. NEGA (Cyrillic: НЕГА) (J8Y4483) Yacht Russia flag; Vessel Registration Identification RS 130280 (Russia); MMSI 273337970 (vessel) [RUSSIA-EO14024] (Linked To: LIMITED LIABILITY CORPORATION GELIOS).

Identified as property in which Limited Liability Corporation Gelios, a person whose property and interests in property are blocked pursuant to E.O. 14024, has an interest.

6. SHELLEST (Cyrillic: ШЕЛЛЕСТ) (UBAO8) Yacht Russia flag; Vessel Registration Identification RS 150443 (Russia); MMSI 273385420 (vessel) [RUSSIA-EO14024] (Linked To: NON-PROFIT PARTNERSHIP REVIVAL OF MARITIME TRADITIONS).

Identified as property in which Non-Profit Partnership Revival of Maritime Traditions, a person whose property and interests in property are blocked pursuant to E.O. 14024, has an interest.

7. FLYING FOX (ZGHN) Yacht 9,022GRT Cayman Islands flag; Vessel Registration Identification IMO 9829394; MMSI 319133800 (vessel) [RUSSIA-EO14024] (Linked To: IMPERIAL YACHTS SARL).

Identified as property in which IMPERIAL YACHTS SARL, a person whose property and interests in property are blocked pursuant to E.O. 14024, has an interest.

Aircraft

1. T7-OKY; Aircraft Manufacture Date 2014; Aircraft Model BD700-1A10 Global 6000; Aircraft Manufacturer's Serial Number (MSN) 9576; Registration Number T7-OKY (San Marino) (aircraft) [UKRAINE-EO13685] (Linked To: SRL SKYLINE AVIATION).

Identified as property in which SRL Skyline Aviation, a person whose property and interests in property are blocked pursuant to E.O. 13685, has an interest.

2. P4-MGU; Aircraft Manufacture Date 18 Feb 2013; Aircraft Model A319; Aircraft Manufacturer's Serial Number (MSN) 5445; Aircraft Tail Number P4-MGU (aircraft) [UKRAINE-EO13661] [RUSSIA-EO14024] (Linked To: SKOCH, Andrei Vladimirovich).

Identified as property in which Andrei Vladimirovich Skoch, a person whose property and interests in property are blocked pursuant to E.O. 13661 and E.O. 14024, has an interest.

3. 3A-MGU; Aircraft Model AS365 Dauphin; Aircraft Manufacturer's Serial Number (MSN) 6959; Aircraft Tail Number 3A-MGU; Secondary sanctions risk: Ukraine-/Russia-Related Sanctions Regulations, 31 CFR 589.201 and/or 589.209 (aircraft) [UKRAINE-EO13661] [RUSSIA-EO14024] (Linked To: SKOCH, Andrei Vladimirovich).

Identified as property in which Andrei Vladimirovich Skoch, a person whose property and interests in property are blocked pursuant to E.O. 13661 and E.O. 14024, has an interest.

B. On June 2, 2022, OFAC updated the entry on the SSI List for the following entity, which remains subject to the prohibitions of Directive 1 under E.O. 13662, “Blocking Property of Additional Persons Contributing to the Situation in Ukraine” 79 FR 16169 (March 24, 2014) for being identified as an entity in which in the Bank of Moscow owns, directly or indirectly, a 50 percent or greater interest.

Dated: June 2, 2022.
Andrea M. Gacki,
Director, Office of Foreign Assets Control, U.S. Department of the Treasury.

[FR Doc. 2022-12525 Filed 6-9-22; 8:45 am]

BILLING CODE 4810-AL-C